DEPARTMENT OF HOUSING AND URBAN DEVELOPMENT

[Docket No. FR-5130-N-02]

Privacy Act of 1974; Notice of Matching Program: Matching Tenant Data in Assisted Housing Programs

AGENCY: Office of the Chief Information Officer, HUD.

ACTION: Notice of a computer matching program between the Department of Housing and Urban Development (HUD) and the Rural Housing Service (RHS), Department of Agriculture.

SUMMARY: Pursuant to the Computer Matching and Privacy Protection Act of 1988, as amended, and the Office of Management and Budget's (OMB) Guidance on the statute, HUD is announcing a new a matching program involving comparisons between data provided by applicants or participants in HUD's assisted housing programs and applicants for RHS's rural housing programs. The matching program will be carried out to detect excessive or duplicate housing assistance as result of Hurricanes Katrina and Rita.

The matching program will be accomplished by comparing income, family size, family address, family identity, and benefit data for individuals participating in HUD's assisted housing programs and subsidized multifamily housing programs with rural housing assistance data maintained by RHS in its HS Multifamily Programs (MFH), Multifamily Information System (MFIS), Single Family Housing Programs (SFH), Dedicated Loan Origination and Servicing System (DLOS), and Guaranteed Loan System (GLS) databases within its system of records known as System of Records titled “USDA/Rural Development,” last published 63 FR 38546 (July 17, 1998). Specifically, HUD will compare the RHS identity, income, family size, and benefit data to tenant-reported data included in HUD's system of records known as: (1) the Tenant Housing Assistance and Contract Verification Data (HUD/H-11), last published at 62 FR 11909 (March 13, 1997); and (2) the Public and Indian Housing Information Center (HUD/PIH-4), last published at 67 FR 20986 (April 29, 2002). The tenant comparisons will identify, based on criteria established by HUD, tenants whose incomes, family size, address, or benefit levels, etc. that require further verification to determine if the tenants received excessive or duplicate rental assistance. The program also provides for the verification of the matching results and the initiation of appropriate administrative or legal actions.

DATES: Effective Date: Computer matching is expected to begin June 13, 2007, unless comments are received which will result in a contrary determination, or 40 days after a copies of the underlying matching agreement is signed, approved by HUD and RHS Data Integrity Boards, and sent to both Houses of Congress, whichever is later.

Comments Due Date: June 13, 2007.

ADDRESSES: Interested persons are invited to submit comments regarding this notice to the Rules Docket Clerk, Office of General Counsel, Department of Housing and Urban Development, 451 Seventh Street, SW, Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: For Privacy Act: Jeanette Smith, Departmental Privacy Act Officer, Department of Housing and Urban Development, 451 Seventh Street, SW., Room 4176, Washington, DC 20410, telephone number (202) 402-8062. A telecommunications device for hearing- and speech-impaired individuals (TTY) is available at 1-800-877-8339 (Federal Information Relay Service).

For further information from recipient agency: Bryan Saddler, Counsel to the Inspector General, Department of Housing and Urban Development, 451 Seventh Street, SW., Room 8260, Washington, DC 20410, telephone number (202) 708-1613.

SUPPLEMENTARY INFORMATION: The Computer Matching and Privacy Protection Act (CMPPA) of 1988, an amendment to the Privacy Act of 1974 (5 U.S.C. 552a), OMB's guidance on this statute entitled “Final Guidance Interpreting the Provisions of Public Law 100-503, the CMPPA of 1988” (OMB Guidance), and OMB Circular No. A-130 requires publication of notices of computer matching programs. Appendix I to OMB's Revision of Circular No. A-130, “Transmittal Memorandum No. 4, Management of Federal Information Resources,” prescribes Federal agency responsibilities for maintaining records about individuals. In compliance with the CMPPA and Appendix I to OMB Circular No. A-130, copies of this notice are being provided to the Committee on Government Reform of the House of Representatives, the Committee on Governmental Affairs of the Senate, and OMB's Office of Information and Regulatory Affairs.

I. Authority

This matching program is being conducted pursuant to the Emergency Supplemental Appropriations to Address Hurricanes in the Gulf of Mexico and Pandemic Influenza, 2006 (Pub. L. 109-148); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); the Quality Housing and Work Responsibility Act of 1998 (42 U.S.C. 1437a(f)); the Inspector General Act of 1978 (5 U.S.C. App. 3); Computer Matching and Privacy Protection Act of 1988 (Pub. L. 100-53); and 65 FR 24732 and 64 FR 54930.

Chapter 9, Title I, of the Emergency Supplemental Appropriations to Address Hurricanes in the Gulf of Mexico and Pandemic Influenza, requires HUD to provide Tenant-Based Rental Assistance only to tenants who received housing assistance prior to the hurricanes and to “those which were homeless or in emergency shelters in the declared disaster area prior to Hurricanes Katrina or Rita.” It also requires, with respect to Community Development Fund assistance, that HUD establish procedures to prevent recipients from receiving any duplication of benefits.

The Stewart B. McKinney Homeless Assistance Amendments Act of 1988 authorizes HUD and housing agencies (HAs) (but not private owners/management agents for subsidized multifamily projects) to request wage and claim information from State Wage Information Collection Agencies (SWICAs) responsible for administering State unemployment laws in order to undertake computer matching of individual's income and eligibility for HUD housing assistance. This Act authorizes HUD to require applicants and participants to sign a consent form authorizing HUD or the HA to request wage and claim information from the SWICAs.

The Inspector General Act authorizes the HUD Inspector General to undertake programs to detect and prevent fraud and abuse in all HUD programs.

RHS, pursuant to section 312 of the Robert T. Stafford Disaster Relief and Emergency Assistance Act (the Stafford Act) 42 U.S.C. 5155, Pub. L. 93-288, as amended, and 7 CFR part 1951, subpart O must assure that no person receiving disaster assistance receives unauthorized assistance.

II. Objectives To Be Met by the Matching Program

HUD's primary objectives in implementing the computer matching program are: (a) To identify individuals who are receiving housing benefits in excess of those to which they are entitled; and (b) to identify duplicate disaster assistance payments. In meeting these objectives HUD also is carrying out a responsibility under 42 U.S.C. 1437f(K) to ensure that income data provided to POAs by household members is complete and accurate, and under 42 U.S.C. 5155 to avoid the duplication of Federal assistance payments.

The matching program identifies tenants receiving inappropriate (excessive or insufficient) rental assistance resulting from under or over-reported household income (including other Federal assistance) or composition. When excessive rental assistance amounts are identified, some tenants move out of assisted housing units; other tenants agree to repay excessive rental assistance. These actions may increase rental assistance or the number of units available to serve other beneficiaries of HUD programs. When tenants continue to be eligible for rental assistance, but at a reduced level, the tenants will be required to increase their contributions toward rent.

III. Program Description

This computer matching program, to the extent that it involves the use of SSA, IRS or SWICA data is fully described at 69 FR 11033. With respect to RHS data, the matching program will be accomplished by comparing income, family size, family address, family identity, and benefit data for individuals participating in HUD's assisted housing programs and subsidized multifamily housing programs with rural housing assistance data maintained by RHS in its systems of records known as “USDA/Rural Development”, last published 63 FR 38546 (July 17, 1998). Specifically, HUD will compare the RHS identity, income, family size, and benefit data to tenant-reported data included in HUD's system of records known as: (1) The Tenant Housing Assistance and Contract Verification Data (HUD/H-11), last published at 62 FR 11909 (March 13, 1997); and (2) the Public and Indian Housing Information Center (HUD/PIH-4), last published at 67 FR 20986 (April 29, 2002). The tenant comparisons will identify, based on criteria established by HUD, tenants whose incomes, family size, address, or benefit levels, etc. require further verification to determine if the tenants received excessive or duplicate rental assistance. The program also provides for the verification of the matching results and the initiation of appropriate administrative or legal actions.

A. Income Verification

Any match (i.e., a “hit”) will be further reviewed by HUD, the POA, or the HUD Office of Inspector General (OIG), RHS, or the Department of Agriculture Office of Inspector to determine whether the information reported to the POA is correct and complies with HUD and POA requirements, and whether the tenant received duplicate housing assistance from RHS. Specifically, current or prior wage information and other data will be sought directly from employers.

B. Administrative or Legal Actions

Regarding all the matching described in this notice, HUD anticipates that POAs will take appropriate action in consultation with tenants to: (1) Resolve income disparities between tenant-reported and independent income source data, and (2) use correct income amounts in determining housing rental assistance.

POAs must compute the rent in full compliance with all applicable occupancy regulations. POAs must ensure that they use the correct income and correctly compute the rent. The POAs may not suspend, terminate, reduce, or make a final denial of any housing assistance to any tenant as the result of information produced by this matching program until: (a) The tenant has received notice from the POA of its findings and informing the tenant of the opportunity to contest such findings and (b) either the notice period provided in applicable regulations of the program, or 30 days, whichever is later, has expired. In most cases, POAs will resolve income discrepancies in consultation with tenants. Additionally, serious violations, which POAs, HUD Program staff, or HUD OIG verify, should be referred for full investigation and appropriate civil and/or criminal proceedings.

IV. Records To Be Matched

This computer matching program, to the extent that it involves the use of SSA, IRS or SWICA data is fully described at 69 FR 11033. With respect to RHS data, the match will involve tenant records obtained directly from POAs and subsidized multifamily projects included in the Tenant Housing Assistance and Contract Verification Data (HUD/H-11) and the Public and Indian Housing Information Center (HUD/PIH-4). These records contain information about individuals who are participants in the Federal low income and Section 8 housing assistance programs. Specifically, the tenant records include these data elements:

(1) SSNs for each family member;

(2) Family control number to identify each tenant with a particular family;

(3) Head of Household Indicator;

(4) Last Name, First Name, Middle Initial, and Address for household;

(5) Sex;

(6) Birth Date;

(7) Reported Income by source, description and amount;

(8) Program Code; and

(9) Recertification Date.

The RHS will provide HUD with files from the USDA/Rural Development. The notice for this system was published at 63 FR 38546. The disclosure from USDA/Rural Development will be made in accordance with routine use “5.” HUD will match the tenant records to the RHS records on disaster assistance applicants to compare tenant reported income. For matched tenant's SSNs (i.e., “hits”), HUD will match the following information from USDA/Rural Development: the RHS applicant or co-applicant name(s), address(es), social security number(s), assistance date(s), and rental/loan/grant assistance amount(s).

V. Period of the Match

The computer matching program will be conducted according to an agreement between HUD and the RHS. The computer matching agreement for the planned matches will terminate either when the purpose of the computer matching program is accomplished, or 18 months from the date the agreement is signed, whichever comes first. The agreement may be extended for one 12-month period, with the mutual agreement of all involved parties, if the following conditions are met:

(1) Within 3 months of the expiration date, all Data Integrity Boards review the agreement, find that the program will be conducted without change, and find a continued favorable examination of benefit/cost results; and

(2) All parties certify that the program has been conducted in compliance with the agreement.

The agreement may be terminated, prior to accomplishment of the computer matching purpose or 18 months from the date the agreement is signed (whichever comes first), by the mutual agreement of all involved parties within 30 days of written notice.

Dated: May 3, 2007.
Lisa Schlosser,
Chief Information Officer.

[FR Doc. E7-9170 Filed 5-11-07; 8:45 am]

BILLING CODE 4210-67-P